SMALL BUSINESS ADMINISTRATION

Reporting and Recordkeeping Requirements Under OMB Review; National Women's Business Council

ACTION: Notice 30 Day Reporting Requirements Submitted for OMB Review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before April 22, 2013. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Curtis Rich, Curtis.rich@sba.gov Small Business Administration, 409 3rd Street SW., 5th Floor, Washington, DC 20416; and OMB Reviewer, Emily Bruno, Research Director, National Women Business Council (NWBC) Emily.bruno@nwbc.gov and Office of Information and Regulatory Affairs, Office of Management and Budget, New Executive Office Building, Washington, DC 20503.

FOR FURTHER INFORMATION CONTACT: Curtis Rich, Agency Clearance Officer, (202) 205-7030.

SUPPLEMENTARY INFORMATION: Title: “Focus Group Research: Young Women Entrepreneurs”.

Frequency: On Occasion.

Description of Respondents: Young Women Entrepreneurs in a range of industries and sectors across the United States.

Responses: 444.

Annual Burden: 261.

Anie J. Borja,
Executive Director.

[FR Doc. 2013-06659 Filed 3-21-13; 8:45 am]

BILLING CODE P